DEPARTMENT OF ENERGY

Federal Energy Regulatory Commission

Combined Notice of Filings #1

Take notice that the Commission received the following electric corporate filings:

Docket Numbers: EC13-80-000.

Applicants: Berry Petroleum Company.

Description: Berry Petroleum Company's Section 203 FPA Application.

Filed Date: 3/11/13.

Accession Number: 20130311-5180.

Comments Due: 5 p.m. ET 4/1/13.

Take notice that the Commission received the following electric rate filings:

Docket Numbers: ER13-915-000.

Applicants: Pinpoint Power, LLC.

Description: Supplement to Notice of Cancellation of Tariff Record Associated with Market-Based Rate Tariff of Pinpoint Power, LLC.

Filed Date: 3/7/13.

Accession Number: 20130307-5191.

Comments Due: 5 p.m. ET 3/28/13.

Docket Numbers: ER13-1068-000.

Applicants: Southwest Power Pool, Inc.

Description: Revisions to Sections 19.4 and 32.4—Facilities Study Procedures to be effective 6/1/2013.

Filed Date: 3/11/13.

Accession Number: 20130311-5102.

Comments Due: 5 p.m. ET 4/1/13.

Docket Numbers: ER13-1069-000.

Applicants: MP2 Energy LLC.

Description: Market Based Rate Application to be effective 3/12/2013.

Filed Date: 3/11/13.

Accession Number: 20130311-5150.

Comments Due: 5 p.m. ET 4/1/13.

Docket Numbers: ER13-1070-000.

Applicants: Cheyenne Light, Fuel and Power Company.

Description: Request for Expedited Approval of Potential Simultaneous Exchange Transaction to be effective 4/1/2013.

Filed Date: 3/11/13.

Accession Number: 20130311-5151.

Comments Due: 5 p.m. ET 4/1/13.

Take notice that the Commission received the following qualifying facility filings:

Docket Numbers: QF13-325-000.

Applicants: IPS Power Engineering.

Description: Form 556—Notice of self-certification of qualifying cogeneration facility status of IPS Power Engineering under QF13-325.

Filed Date: 03/05/13, 03/07/13.

Accession Number: 20130305-5082, 20130307-5150.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 12, 2013.
Nathaniel J. Davis, Sr.,
Deputy Secretary.

[FR Doc. 2013-06264 Filed 3-18-13; 8:45 am]

BILLING CODE 6717-01-P